LEGAL SERVICES CORPORATION

Request for Comments—LSC Budget Request for FY 2008

AGENCY: Legal Services Corporation.

ACTION: Request for comments—LSC budget request for FY 2008.

SUMMARY: The Legal Services Corporation is beginning the process of developing its FY 2008 budget request to Congress and is soliciting suggestions as to what the request should be.

DATES: Written comments must be received on or before September 1, 2006.

ADDRESSES: Written comments may be submitted by mail, fax or e-mail to Charles Jeffress, Chief Administrative Officer, Legal Services Corporation, 3333 K St., NW., Washington, DC 20007; 202-295-1630 (phone); 202-337-6386 (fax); cjeffress@lsc.gov.

FOR FURTHER INFORMATION CONTACT: Charles Jeffress, Chief Administrative Officer, Legal Services Corporation, 3333 K St., NW., Washington, DC 20007; 202-295-1630 (phone); 202-337-6386 (fax); cjeffress@lsc.gov.

SUPPLEMENTARY INFORMATION: The Legal Services Corporation's (LSC) mission is to promote equal access to justice in our Nation and to provide for high-quality civil legal assistance to low income persons. LSC submits an annual budget request directly to Congress and receives an annual direct appropriation to carry out its mission. For the current fiscal year (FY 2006), LSC received an appropriation of $326,577,984 of which $308,385,346 was for basic field programs; $2,506,572 was for the Office of Inspector General; $12,661,199 was for management and administration; $1,238,971 was for technology initiative grants; and $1,785,896 was for grants to offset losses due to census adjustments. Public Law 109-108, 119 Stat. 2290. (The FY 2007 budget request has already been submitted to Congress and LSC is awaiting Congressional action.)

As part of its annual budget and appropriation process, LSC notifies the Office of Management and Budget (OMB) as to what the LSC budget request to Congress will be for the next fiscal year. OMB requests this information by October 15 of each year. Accordingly, LSC is currently in the process of formulating its FY 2008 budget request.

LSC invites public comment on what its FY 2008 budget request should be. Interested parties may submit comments to LSC by September 1, 2006. More information about LSC can be found at LSC's Web site: http://www.lsc.gov

Dated: August 1, 2006.
Victor M. Fortuno,
Vice President and General Counsel.

[FR Doc. E6-13108 Filed 8-9-06; 8:45 am]

BILLING CODE 7050-01-P